DEPARTMENT OF TRANSPORTATION

Federal Aviation Administration

14 CFR Part 71

[Docket No. FAA-2016-6986; Airspace Docket No. 16-ACE-6]

Revocation of Class E Airspace; Farmington, MO; and Amendment of Class E Airspace for the following Missouri Towns; Ava, MO; Cameron, MO; Chillicothe, MO; Farmington, MO; and Festus, MO

AGENCY: Federal Aviation Administration (FAA), DOT.

ACTION: Final rule.

SUMMARY: This action removes Class E surface area airspace at Farmington Regional Airport, Farmington, MO; and modifies Class E airspace extending upward from 700 feet above the surface at Ava Bill Martin Memorial Airport, Ava, MO; Cameron Memorial Airport, Cameron, MO; Chillicothe Municipal Airport, Chillicothe, MO; Farmington Regional Airport, Farmington, MO; and Festus Memorial Airport, Festus, MO. Decommissioning of non-directional radio beacons (NDB), cancellation of NDB approaches, and implementation of area navigation (RNAV) procedures have made this action necessary for the safety and management of Instrument Flight Rules (IFR) operations at these airports.

DATES: Effective 0901 UTC, April 27, 2017. The Director of the Federal Register approves this incorporation by reference action under Title 1, Code of Federal Regulations, part 51, subject to the annual revision of FAA Order 7400.11 and publication of conforming amendments.

ADDRESSES: FAA Order 7400.11, Airspace Designations and Reporting Points, and subsequent amendments can be viewed online at http://www.faa.gov/air_traffic/publications/. For further information, you can contact the Airspace Policy Group, Federal Aviation Administration, 800 Independence Avenue, SW., Washington, DC. 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11A, Airspace Designations and Reporting Points, is published yearly and effective on September 15.

FOR FURTHER INFORMATION CONTACT: Jeffrey Claypool, Federal Aviation Administration, Operations Support Group, Central Service Center, 10101 Hillwood Parkway, Fort Worth, TX, 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it removes Class E surface area airspace at Farmington Regional Airport, Farmington, MO; and modifies Class E airspace extending upward from 700 feet above the surface at Ava Bill Martin Memorial Airport, Ava, MO; Cameron Memorial Airport, Cameron, MO; Chillicothe Municipal Airport, Chillicothe, MO; Farmington Regional Airport; and Festus Memorial Airport, Festus, MO.

History

On June 28, 2016, the FAA published in the Federal Register a notice of proposed rulemaking (NPRM), (81 FR 41900) Docket No. FAA-2016-6986, to remove Class E surface area airspace at Farmington Regional Airport, Farmington, MO; and modify Class E airspace extending upward from 700 feet above the surface at Ava Bill Martin Memorial Airport, Ava, MO; Cameron Memorial Airport, Cameron, MO; Chillicothe Municipal Airport, Chillicothe, MO; Farmington Regional Airport; and Festus Memorial Airport, Festus, MO. Interested parties were invited to participate in this rulemaking effort by submitting written comments on the proposal to the FAA. One comment was received from Mr. Wally Roberts stating that the NPRM did not adequately substantiate the reason for removing the Class E surface area airspace at Farmington Regional Airport. The FAA agrees and offers the following in response to Mr. Roberts' comment.

Federal Aviation Administration Order JO 7400.2K, Procedures for Handling Airspace Matters, provides the criteria for determining airspace requirements. Chapter 18 of the FAA Order JO 7400.2K outlines the requirements for Class E airspace. For an airport to have Class E surface area airspace designated, it must meet the requirements outlined in paragraph 18-1-3, which states, “If the communication and weather requirements described in paragraphs 17-2-9 and 17-2-10 are met, Class E surface airspace may be designated. . .” The Farmington Regional Airport meets the weather requirements outlined in paragraph 17-2-10; however, it does not meet the communications requirements in 17-2-9, specifically communication capabilities with aircraft to the runway surface of the airport. This was verified with Kansas City Air Route Traffic Control Center, which has jurisdiction over Farmington Regional Airport. As the Farmington Regional Airport does not meet the requirements for Class E surface area airspace contained in paragraph 18-1-3, it is not in compliance with FAA Order JO 7400.2K, and the airspace is being removed. The Class E airspace extending upward from 700 feet above the surface at Farmington Regional Airport provides for the transition to/from the airport and provides the airspace required by FAA Order JO 7400.2K to protect the current standard instrument approach procedures at the airport and for the safety and management of IFR operations at the airport.

Class E airspace designations are published in paragraph 6002 and 6005, respectively, of FAA Order 7400.11A, dated August 3, 2016, and effective September 15, 2016, which is incorporated by reference in 14 CFR 71.1. The Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 removes Class E surface area airspace at Class E surface area airspace at Farmington Regional Airport, Farmington, MO, as it is not in compliance with FAA Order JO 7400.2K and the airport does not meet the requirements for Class E surface area airspace. This action also modifies Class E airspace extending upward from 700 feet above the surface at the following airports:

Within a 6.8-mile radius (increased from a 6.3-mile radius) of Ava Bill Martin Memorial Airport, Ava, MO, with a segment extending from the 6.8-mile radius to the Dogwood VHF omnidirectional range collocated tactical air navigation (VORTAC) west/northwest of the airport;

Within a 6.4-mile radius of Cameron Memorial Airport, Cameron, MO, removing the extension south of the airport;

Within a 6.4-mile radius (decreased from a 6.9-mile radius) of Chillicothe Municipal Airport, Chillicothe, MO;

Within a 6.4-mile radius of Farmington Regional Airport, Farmington, MO, with a segment extending from the 6.4-mile radius to 11.5 miles southwest of the airport, and a segment extending from the 6.4-mile radius to the Farmington VORTAC; and

Within a 6.9-mile radius (increased from the 6.2-mile radius) of Festus Memorial Airport, Festus, MO, with a segment extending from the 6.9-mile radius to 8.8 miles south of the airport, and removing the decommissioned Festus NDB from the boundary description.

Airspace reconfiguration is necessary due to the decommissioning of NDBs including the Cameron NDB and Festus NDB: cancellation of NDB approaches; and implementation of RNAV procedures at these airports. Controlled airspace is necessary for the safety and management of the standard instrument approach procedures for IFR operations at these airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

ACE MO E2 Farmington, MO [Removed]

Paragraph 6005 Class E Airspace Areas Extending Upward From 700 feet or More Above the Surface of the Earth.

* * * * *

ACE MO E5 Ava, MO [Amended]

Ava Bill Martin Memorial Airport, MO

(Lat. 36°58′19″ N., long. 92°40′55″ W.)

Dogwood VORTAC

(Lat. 37°01′24″ N., long. 92°52′37″ W.)

That airspace extending upward from 700 feet above the surface within a 6.8-mile radius of Ava Bill Martin Memorial Airport, and within 1.8 miles each side of the 107° radial of the Dogwood VORTAC extending from the 6.8-mile radius to the VORTAC.

* * * * *

ACE MO E5 Cameron, MO [Amended]

Cameron Memorial Airport, MO

(Lat. 39°43′39″ N., long. 94°16′35″ W.)

That airspace extending upward from 700 feet above the surface within a 6.4-mile radius of Cameron Memorial Airport.

* * * * *

ACE MO E5 Chillicothe, MO [Amended]

Chillicothe Municipal Airport, MO

(Lat. 39°46′55″ N., long. 93°29′47″ W.)

That airspace extending upward from 700 feet above the surface within a 6.4-mile radius of Chillicothe Municipal Airport.

* * * * *

ACE MO E5 Farmington, MO [Amended]

Farmington Regional Airport, MO

(Lat. 37°45′40″ N., long. 90°25′43″ W.)

Farmington VORTAC

(Lat. 37°40′24″ N., long. 90°14′03″ W.)

That airspace extending upward from 700 feet above the surface within a 6.4-mile radius of Farmington Regional Airport, and within 4 miles each side of the 204° bearing from the airport extending from the 6.4-mile radius to 11.5 miles southwest of the airport, and within 2 miles each side of the Farmington VORTAC 299° radial extending from the 6.4-mile radius of the airport to the VORTAC.

* * * * *

ACE MO E5 Festus, MO [Amended]

Festus Memorial Airport, MO

(Lat. 38°11′42″ N., long. 90°23′08″ W.)

That airspace extending upward from 700 feet above the surface within a 6.9-mile radius of Festus Memorial Airport, and within 2 miles each side of the 188° bearing from the airport extending from the 6.9-mile radius to 8.8 miles south of the airport.

Issued in Fort Worth, Texas, on February 1, 2017.
Walter Tweedy,
Acting Manager, Operations Support Group, ATO Central Service Center.

[FR Doc. 2017-03518 Filed 2-24-17; 8:45 am]

BILLING CODE 4910-13-P